ENVIRONMENTAL PROTECTION AGENCY

[FRL-9959-79-OA]

Notification of a Public Teleconference of the Chartered Science Advisory Board (SAB)

AGENCY: Environmental Protection Agency (EPA).

ACTION: Notice.

SUMMARY: The EPA Science Advisory Board (SAB) Staff Office announces a public teleconference of the Chartered SAB to discuss the draft SAB Review of Lake Erie Nutrient Load Reduction Models and Targets (February, 2017) and conduct a quality review. Due to unforeseen administrative circumstances, EPA is announcing this meeting with less than 15 calendar days' notice.

DATES: The teleconference will be held on Thursday, March 30, 2017, from 1:00 p.m. to 2:30 p.m. (Eastern Time).

Location: The public teleconference will be held by telephone only.

FOR FURTHER INFORMATION CONTACT: Any member of the public wishing to obtain information concerning the public teleconference may contact Mr. Thomas Carpenter, Designated Federal Officer (DFO), EPA Science Advisory Board Staff Office (1400R), U.S. Environmental Protection Agency, 1200 Pennsylvania Avenue NW., Washington, DC 20460; by telephone/voice mail at (202) 564-4885 or at carpenter.thomas@epa.gov. General information about the SAB, as well as any updates concerning the meeting announced in this notice, may be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below.

The Chartered SAB will conduct a quality review of the Lake Erie Phosphorus Objective Review Panel draft report before it is transmitted to the EPA Administrator. The SAB quality review process ensures that all draft reports developed by SAB panels, committees or workgroups are reviewed and approved by the Chartered SAB before being finalized and transmitted to the EPA Administrator. These reviews are conducted in a public meeting as required by FACA.

EPA Region 5 has asked the SAB to provide advice on further modeling, monitoring, and analyses needed to support implementation and evaluation of the nutrient reduction goals as part of an ongoing, adaptive management approach. Background on the Lake Erie Nutrient Targets and Adaptive Management activity is available on the SAB Web site at: http://yosemite.epa.gov/sab/sabproduct.nsf/fedrgstr_activites/GLWQA%20Annex%204?OpenDocument.

Pursuant to FACA and EPA policy, notice is hereby given that the Chartered SAB will hold a public teleconference to discuss the SAB Review of Lake Erie Nutrient Load Reduction Models and Targets (February 2017). The Chartered SAB will comply with the provisions of FACA and all appropriate SAB Staff Office procedural policies.

Technical Contacts: Any technical questions concerning the documents reviewed by the SAB should be directed to Ms. Santina Wortman, Water Division, U.S. EPA Region 5, 77 West Jackson Boulevard (WW-15J), Chicago, Illinois 60604, phone (312) 353-8319 or via email at wortman.santina@epa.gov.

Availability of Meeting Materials: Prior to the meeting, the review documents, agenda and other materials will be accessible on the SAB Web site at http://www.epa.gov/sab/.

Procedures for Providing Public Input: Public comment for consideration by the EPA's federal advisory committees and panels has a different purpose from public comment provided to the EPA program offices. Therefore, the process for submitting comments to a federal advisory committee is different from the process used to submit comments to an EPA program office.

Federal advisory committees and panels, including scientific advisory committees, provide independent advice to the EPA. Members of the public can submit comments for a federal advisory committee to consider as it develops advice for the EPA. Interested members of the public may submit relevant written or oral information on the topic of this advisory activity, and/or the group conducting the activity, for the SAB to consider during the advisory process. Input from the public to the SAB will have the most impact if it provides specific scientific or technical information or analysis for SAB to consider or if it relates to the clarity or accuracy of the technical information. Members of the public wishing to provide comment should follow the instructions below to submit comments. Oral Statements: In general, individuals or groups requesting an oral presentation on a public teleconference will be limited to three minutes. Each person making an oral statement should consider providing written comments as well as their oral statement so that the points presented orally can be expanded upon in writing. Interested parties should contact Mr. Thomas Carpenter, DFO, in writing (preferably via email) at the contact information noted above by March 23, 2017, to be placed on the list of public speakers. Written Statements: Written statements should be supplied to the DFO via email at the contact information noted above by March 23, 2017, so that the information may be made available to the SAB members for their consideration. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Thomas Carpenter at the contact information provided above. To request accommodation of a disability, please contact Mr. Carpenter preferably at least ten days prior to each meeting to give the EPA as much time as possible to process your request.

Dated: February 16, 2017.
Khanna Johnston,
Acting Deputy Director, EPA Science Advisory Staff Office.

[FR Doc. 2017-05718 Filed 3-21-17; 8:45 am]

BILLING CODE 6560-50-P